DEPARTMENT OF ENERGY

Federal Energy Regulatory Commission

[Docket No. GT02-37-001]

PG&E Gas Transmission Northwest Corporation; Notice of Compliance Filing

October 25, 2002.

Take notice that on October 21, 2002, PG&E Gas Transmission, Northwest Corporation (GTN) tendered for filing to be part of its FERC Gas Tariff, Second Revised Volume No. 1-A, the tariff sheets included in Appendix A to the filing, to be effective October 1, 2002.

GTN states that the filing is being filed to comply with the requirements of the Commission's September 30, 2002 Order in this proceeding. The Commission's September 30th Order required minor modifications to GTN tariff language that provides for the termination of shipper contracts for non-payment and the treatment of replacement shippers when a releasing shipper's contract is terminated.

GTN further states that a copy of this filing has been served on GTN's jurisdictional customers and interested state regulatory agencies.

Any person desiring to protest said filing should file a protest with the Federal Energy Regulatory Commission, 888 First Street, NE, Washington, DC 20426, in accordance with section 385.211 of the Commission's rules and regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Magalie R. Salas,
Secretary.

[FR Doc. 02-27934 Filed 11-1-02; 8:45 am]

BILLING CODE 6717-01-P